DEPARTMENT OF HEALTH AND HUMAN SERVICES

Centers for Medicare & Medicaid Services

Notice of Supplemental Grant Award to Bucks County Health Improvement Project, Inc. for a Project Entitled, “Increasing Access to Health Care for Bucks County Residents”

AGENCY: Centers for Medicare & Medicaid Services (CMS), HHS.

ACTION: Notice of Supplemental Grant Award.

Funding Amount: $500,000. There will be an additional supplement of $500,000 to this grant in FY 2007.

SUMMARY: The Centers for Medicare & Medicaid Services has awarded a supplemental grant entitled “Increasing Access to Health Care for Bucks County Residents” to the Bucks County Health Improvement Project, Inc., 1201 Langhorne-Newton Road, Langhorne, PA 19047. The project period is September 10, 2002 through September 9, 2008. The Bucks County Health Improvement Project (BCHIP) proposes to provide 3 ongoing major programs, which were initiated under the parent grant. These include continuation and expansion of: The adult health clinic which has served over 3,274 patients having 9,200 visits; the dental program for needy children and adults; and the Cardiovascular Risk Reduction program. Through these programs, BCHIP provides health and dental services for vulnerable populations, including under-insured and recent immigrants.

These BCHIP health services for the indigent and uninsured have helped meet fundamental physical, dental, and mental health needs for residents, including immigrant groups, who are otherwise without resources for needed care. There is concern that without additional supplemental funding, provision of these vital health care services in Bucks County would be at risk. An additional 2 years of funding will permit BCHIP to follow-on with several of their major, demonstrated successful programs delivering community care and outreach to targeted groups with serious unmet needs.

Furthermore, the BCHIP consortium of public and private hospitals and outpatient health and dental providers has collaborated over the past 15 years to develop an impressively efficient administrative framework for the donation, provision and coverage of a wide array of health services for the medically indigent. Additional funding will further foster the improvement and expansion of their model for administering health care through multiple programs to the needy. Over the past 2 years, BCHIP leaders have been sharing their administrative model and experience with other health U.S. organizations and communities, including a “Communities Joined in Action” conference in New Orleans and quarterly Pennsylvania State Health Improvement Plan (SHIP) meetings. They plan to continue to offer guidance to providers and health organizations gleaned from their expanding, ongoing service programs under requested supplemental funding.

This award is made based on the authority granted by section 1110 of the Social Security Act, which authorizes appropriations each fiscal year for grants to pay for part of the cost of research or demonstration projects that will improve the administration and effectiveness of programs.

FOR FURTHER INFORMATION CONTACT: Renee Mentnech, Director, Research and Evaluation Group, Office of Research, Development, and Information, Centers for Medicare & Medicaid Services, Mail Stop C3-21-28, 7500 Security Boulevard, Baltimore, MD 21244, (410) 786-6692, or Judith L. Norris, Grants Officer, Office of Acquisitions and Grants Management, Centers for Medicare & Medicaid Services, Mail Stop C2-21-15, 7500 Security Boulevard, Baltimore, MD 21244, (410) 786-5130.

Authority: (Catalog of Federal Domestic Assistance Program No. 93.779 (CMS) Research, Demonstrations and Evaluations) Section 1110 of the Social Security Act.

Dated: September 19, 2006.
Mark B. McClellan,
Administrator, Centers for Medicare & Medicaid Services.

[FR Doc. 06-8420 Filed 9-29-06; 8:45 am]

BILLING CODE 4120-01-P